DEPARTMENT OF THE TREASURY

Customs Service

19 CFR Part 10

[T.D. 01-33]

RIN 1515-AC85

Amendment to Wool Duty Refund Program

AGENCY: U.S. Customs Service, Department of the Treasury.

ACTION: Interim rule; solicitation of comments.

SUMMARY: This document amends the Customs Regulations on an interim basis regarding the refund of duties paid on imports of certain wool products pursuant to section 505 of the Trade and Development Act of 2000. Principally, this document amends the final rule published in the Federal Register on December 26, 2000, regarding the description of the types of wool products that are eligible to provide the basis for a wool duty refund for claim year 2000. This interim rule is necessary to accurately reflect the scope of section 505. This document also sets forth the tariff provisions that eligible wool products must be entered under in each of claim years 2000, 2001 and 2002 to substantiate a duty refund. These amendments reflect changes to the Harmonized Tariff Schedule by the Annex to Presidential Proclamation 7383. Other amendments involve non-substantive editorial changes and the correction of typographical errors. Due to the changes to the final rule, Customs is reopening the time period within which to file an original or amended letter of intent to file a wool duty refund claim.

DATES: This interim rule is effective April 23, 2001. Letters of intent to file a wool duty refund claim, whether original or amended, must be received by Customs no later than May 8, 2001. Comments must be received on or before June 22, 2001.

ADDRESSES: Written comments (preferably in triplicate) should be submitted to and inspected at the Regulations Branch, Office of Regulations and Rulings, U.S. Customs Service, 1300 Pennsylvania Avenue, N.W., 3rd Floor, Washington, D.C. 20229.

FOR FURTHER INFORMATION CONTACT: Bruce Ingalls, Chief, Entry and Drawback Management (202) 927-1082.

SUPPLEMENTARY INFORMATION:

Background

On May 18, 2000, President Clinton signed into law the Trade and Development Act of 2000 (“the Act”), Public Law 106-200, 114 Stat. 251. Title V of the Act concerns imports of certain wool articles and sets forth provisions intended to provide tariff relief to U.S. manufacturers of specific wool products. Within Title V, section 505 permits eligible U.S. manufacturers to claim a limited refund of duties paid on imports of select wool articles.

On December 26, 2000, Customs published in the Federal Register (65 FR 81344), as T.D. 01-01, the final rule setting forth the eligibility, documentation and procedural requirements regarding Customs issuance of refunds of the duties paid on imports of certain wool products. The final regulation was added to the Customs Regulations at § 10.184 (19 CFR 10.184), effective January 25, 2001.

Since the publication of T.D. 01-01, it has come to Customs attention that certain tariff subheadings identified in § 10.184 of the Customs Regulations (19 CFR 10.184) do not accurately reflect the scope of section 505 in regard to the wool products that may substantiate a duty refund for claim year 2000. This document amends these regulatory provisions so as to conform to the terms of the statute.

This document also amends § 10.184 to reflect the new tariff provisions for certain worsted wool fabrics and wool yarns added to the Harmonized Tariff Schedule of the United States (HTSUS) by the Annex to Presidential Proclamation 7383, published in the Federal Register on December 6, 2000 (65 FR 76551), effective with respect to goods entered, or withdrawn from warehouse for consumption, on or after January 1, 2001. These new HTSUS tariff provisions affect the administration of the wool duty refund program in that they provide the basis for a wool duty refund for claim years 2001 and 2002, and replace certain HTSUS subheadings identified in the tariff provisions created in sections 501 and 502 that provide the basis for a wool duty refund for claim year 2000.

Additionally, this document corrects several typographical errors and makes non-substantive editorial changes to § 10.184.

The amendments, corrections and editorial changes are described below.

Scope of Section 505 in Regard to the Wool Products That Are Eligible to Provide the Basis for a Wool Duty Refund

Section 505 provides that wool products “of the kind” described in HTSUS subheadings 9902.51.11, 9902.51.12, 9902.51.13 or 9902.51.14 are eligible to provide the basis for a wool duty refund for claim years 2000, 2001 and 2002. These 9902 subheadings were created in sections 501 and 502, and were added to the HTSUS on January 1, 2001.

In § 10.184, paragraphs (c), (d), (f) and (g) provide that certain wool products “of the kind” described in the chapter 51, HTSUS, tariff provisions cited in the 9902, HTSUS, subheadings created in sections 501 and 502, may be used to substantiate a wool duty refund for claim year 2000. For claim years 2001 and 2002, the current regulations correctly reference wool products “of the kind” described in the 9902, HTSUS, subheadings created in sections 501 and 502. For claim year 2000, however, the current regulations do not accurately reflect the scope of section 505 in that the chapter 51, HTSUS, tariff provisions referenced therein are broader than the 9902, HTSUS, subheadings because the latter are subject to additional statutory conditions. In this regard, it is noted that the heading texts to HTSUS provisions 5112.11.20 and 5112.19.90 do not contain the statutory condition that the wool fabrics must be “certified by the importer as suitable for use in making suits, suit-type jackets, or trousers,” as is found in the heading texts to 9902.51.11 and 9902.51.12. Also, the heading texts to HTSUS provisions 5107.10.00 (wool yarn) and 5101.11, 5101.19, 5101.21, 5101.29, 5101.30, 5103.10, 5103.20, 5104.00, 5105.21 and 5105.29 (wool fiber and top) do not contain limiting micron criteria, as do the heading texts to 9902.51.13 and 9902.51.14.

For this reason, paragraphs (c), (d), (f) and (g) in § 10.184 are amended to accurately reflect the scope of section 505 by providing that wool products of the kind described in HTSUS subheadings 9902.51.11, 9902.51.12, 9902.51.13 and 9902.51.14 provide the basis for a wool duty refund for claim years 2000, 2001 and 2002.

It should be noted that section 505 does not require that eligible wool products be entered under these 9902, HTSUS, subheadings. Customs is of the view that use of the statutory construction “of the kind” in section 505(a), (b) and (c) reflects Congress' intent to permit wool products entered under the chapter 51, HTSUS, subheadings identified in the tariff provisions created in sections 501 and 502 to be used to substantiate a wool duty refund claim for all three claim years, so long as the products entered under these chapter 51 tariff provisions are “of the kind” described in the relevant 9902, HTSUS, subheadings set forth in section 505. The fact that the relevant 9902, HTSUS, subheadings were not in effect in the tariff schedule until January 1, 2001, supports the view that Congress could not have intended to require entry under these tariff provisions.

Amendments To Conform § 10.184 to Section 505

To reflect the scope of section 505 in regard to the types of wool products that are eligible to provide the basis for a wool duty refund claim, the following amendments are required to the regulatory text:

(1) Within § 10.184, paragraphs (c)(1), (c)(2) and (c)(3) are amended to reflect that for all three claim years section 505 authorizes limited refunds of the duties paid on entries of wool products of the kind described in HTSUS subheadings 9902.51.11, 9902.51.12, 9902.51.13 or 9902.51.14; and

(2) Within § 10.184, the following paragraphs are amended to reflect that the referenced wool products must be “of the kind” described in HTSUS subheadings 9902.51.11, 9902.51.12, 9902.51.13 or 9902.51.14: (d)(2)(i)(D)(1); (d)(2)(ii) (affidavit item 1); (d)(3)(i)(E)(1); (d)(3)(ii) (affidavit item 1); (f); (g)(3)(iii); (g)(3)(iii)(A); (g)(3)(iv) (affidavit item 1); and (g)(3)(vi) (affidavit item 1).

Amendments to § 10.184 To Reflect Additions to the HTSUS Effected by the Annex to Presidential Proclamation 7383

The Annex to Presidential Proclamation 7383 provides for the following HTSUS subheading substitutions, effective on or after January 1, 2001:

• 5112.11.20 is replaced by subheadings 5112.11.30 and 5112.11.60;

• 5112.19.90 is replaced by subheadings 5112.19.60 and 5112.19.95; and

• 5107.10.00 is replaced by subheading 5107.10.30.

Because of these substitutions, it is necessary to clarify which chapter 51, HTSUS, tariff provisions may provide the basis for a wool duty refund for each claim year. To that end, it is noted that the chapter 51, HTSUS, subheadings cited in the heading text to HTSUS subheading 9902.51.14 were not replaced by the Annex, and remain eligible to provide the basis for a wool duty refund for claim years 2000, 2001 and 2002. Those tariff provisions that were replaced in the HTSUS by the Annex are only eligible to provide the basis for a wool duty refund claim for claim year 2000. The new tariff provisions added to the HTSUS by the Annex that replace the chapter 51 subheadings identified in the heading texts to the chapter 99, HTSUS, tariff provisions created in sections 501 and 502 are eligible to provide the basis for a wool duty refund claim for claim years 2001 and 2002. The 9902, HTSUS, subheadings identified in section 505 are eligible to provide the basis for a wool duty refund for claims years 2001 and 2002.

Accordingly, to reflect the language of Presidential Proclamation 7383, within § 10.184, paragraphs (f), (g)(3)(iii)(E) and (F), and (g)(3)(iv) (affidavit items 5(a) and 5(b)) are amended to reflect the additions to the HTSUS implemented by the proclamation and to specify the chapter 51 HTSUS subheadings that are eligible to substantiate a wool duty refund claim for each claim year.

Clarifications to § 10.184

To enhance the clarity of the final regulation, the following amendments are made to the regulatory text:

(1) Within § 10.184, paragraphs (c)(1), (c)(2) and (c)(3) are amended to include the tariff heading texts for the 9902 HTSUS subheadings cited in section 505;

(2) Within § 10.184, paragraphs (c)(1), (c)(2) and (c)(3) are amended to include the chapter 51, HTSUS, subheadings under which eligible wool products must be entered in calendar year 1999;

(3) Within § 10.184, paragraphs (c)(1), (c)(2) and (c)(3) are amended by adding the adjective “U.S.” before the word “manufacturer” in the first sentence of each of these provisions;

(4) Within § 10.184, paragraph (c)(1) is amended by adding the term “imported or” before the word “purchased” at the end of the first sentence;

(5) Within § 10.184, paragraphs (c)(2) and (c)(3) are amended by adding the term “to the manufacturer” after the word “refunded” in the second sentence of each provision;

(6) Within § 10.184, the following paragraphs are amended to clarify under which HTSUS tariff provisions eligible wool products must be entered in specific calendar years for purposes of substantiating a wool duty refund claim: (d)(2); (d)(2)(i)(A); (d)(2)(i)(D)(2); (d)(2)(i)(D)(5); (d)(2)(ii) (affidavit item 2); (d)(2)(ii) (affidavit item 5(a)); (d)(2)(iii)(A); (d)(2)(iv) (affidavit item 1); (d)(3); (d)(3)(i)(A); (d)(3)(i)(E)(2); (d)(3)(ii) (affidavit item 2); and (d)(3)(ii) (affidavit item 5); (f); (g)(3)(iii)(E) and (F); (g)(3)(iv) (affidavit items 5(a) and 5(b));

(7) Within § 10.184, the following paragraphs are amended to clarify that the term “fabric” referenced therein is worsted wool fabric of the kind described in HTSUS subheadings 9902.51.11 or 9902.51.12 and, where appropriate, to clarify that such fabric may be entered under HTSUS subheadings 5112.11.20, 5112.19.90, 5112.11.30, 5112.11.60, 5112.19.60 or 5112.19.95 in specific calendar claim years: (f); (g)(3)(iii)(E) and (F); and (g)(3)(iv) (affidavit items 5(a) and 5(b));

(8) Within § 10.184, the following paragraphs are amended by removing the word “attests” and adding the word “certifies” in its place to clarify that the affidavit serves as the claimant's certification, for purposes of this section, that the subject worsted wool fabric has an average fiber diameter of a particular micron and that the fabric is suitable for use in making men's or boys' suits, suit-type jackets, or trousers: (d)(2)(ii) (affidavit item 6); (d)(2)(iv) (affidavit item 5); (d)(3)(ii) (affidavit item 6); (g)(3)(ii) (affidavit item 7); (g)(3)(iv) (affidavit item 6); and (g)(3)(vi) (affidavit item 6);

(9) Within § 10.184, paragraph (d)(2)(iii)(C) is amended by inserting the word “such” before the word “fabric” in the tenth line of the paragraph to clarify that the referenced fabric is worsted wool fabric of the kind described in (d)(2)(iii)(A) as corrected. The same amendment is made to paragraph (d)(2)(iv) (affidavit item 3);

(10) Within § 10.184, the last sentence in paragraph (d)(4), and paragraphs (d)(4)(i), (ii) and (iii), require rewording to clarify and simplify the regulatory text describing the required content of a letter of intent where the manufacturer is both an importer and a purchaser of eligible worsted wool fabric;

(11) Within § 10.184, the following paragraphs are amended to clarify that the relevant time frame is not a specific claim year or the “current calendar year”, but rather “the calendar year for which a duty refund is sought”: (g)(3)(i)(A); (g)(3)(ii) (affidavit item 1); (g)(3)(iii)(A), (B), (E) and (F); (g)(3)(iv) (affidavit items 2, 5(a) and 5(b)); (g)(3)(v)(A) and (C); and (g)(3)(vi) (affidavit item 3);

(12) Within § 10.184, the following paragraphs are amended to clarify that the referenced eligible wool products need to have been imported in calendar year 1999, but the duties need not have been paid in calendar year 1999: (d)(2)(i)(D)(5); (d)(2)(ii) (affidavit items 5(a) and 5(b)); (d)(2)(iii)(C); (d)(2)(iv) (affidavit item 3); (d)(3)(i)(E)(5); (d)(3)(ii) (affidavit item 5); and (e); and

(13) As a result of the changes described in item (12) above, Customs is reopening the time to file a letter of intent and/or an amended letter of intent. Section 10.184(d)(6) is amended by changing the date that a manufacturer's letter of intent must be received by Customs from March 31, 2001, until May 8, 2001.

Typographical Errors and Non-Substantive Editorial Changes

Several typographical errors and editorial changes require the following corrections to the regulatory text:

(1) Within § 10.184, in paragraph (b), the third word “for” is removed and the word “of” is added in its place;

(2) Within § 10.184, the duplicative term “duty refund” at the end of paragraph (g)(3)(viii) is removed;

(3) Within § 10.184, in paragraphs (d)(2)(i)(D)(1) and (d)(3)(i)(E)(1), the word “fabric” is added after the word “wool';

(4) Within § 10.184, in paragraph (d)(2)(iii)(C), the word “duty” is removed and the word “duties” is added in its place;

(5) Within § 10.184, the following paragraphs are corrected by removing the word “is” and adding in its place the term “is/was”: (d)(2)(iv) (affidavit item 1); (g)(3)(i)(A); (g)(3)(ii) (affidavit item 1); (g)(3)(iii)(A); (g)(3)(iv) (affidavit item 1); and (g)(3)(vi) (affidavit item 1);

(6) Within § 10.184, the following paragraphs are corrected to reflect the redesignations made in paragraph (f): (g)(3)(i)(A); (g)(3)(ii)(affidavit item 1); and (g)(3)(viii);

(7) Within § 10.184, paragraphs (d)(3)(i)(B) and (C) are corrected by removing the term “(d)(2)(i)(A)” and adding in its place “(d)(3)(i)(A)”;

(8) Within § 10.184, paragraphs (d)(3)(i)(E)(3) and (4) are corrected by removing the term “(d)(3)(i)(D)(2)” and adding in its place “(d)(3)(i)(E)(2)”; and

(9) Within § 10.184, paragraph (e) is corrected by removing the term “(d)(5)” and adding in its place “(d)(6)”.

Because of the number of changes to the final rule published in the Federal Register on December 26, 2000, § 10.184 is republished in its entirety in this document.

Comments

Before adopting this interim regulation as a final rule, consideration will be given to any written comments timely submitted to Customs, including comments on the clarity of this interim rule and how it may be made easier to understand. Comments submitted will be available for public inspection in accordance with the Freedom of Information Act (5 U.S.C. 552), § 1.4 of the Treasury Department Regulations (31 CFR 1.4), and § 103.11(b) of the Customs Regulations (19 CFR 103.11(b)), on regular business days between the hours of 9 a.m. and 4:30 p.m. at the Regulations Branch, Office of Regulations and Rulings, U.S. Customs Service, 1300 Pennsylvania Avenue, NW., 3rd Floor, Washington, DC.

Inapplicability of Prior Public Notice and Comment Procedures

Customs has determined, pursuant to the provisions of 5 U.S.C. 553(b)(B), that prior public notice and comment procedures on this regulation are unnecessary and contrary to the public interest. These regulations serve to align the Customs Regulations to section 505 of Title V of the Trade and Development Act of 2000, which went into effect May 18, 2000. The regulatory amendments inform the public of a change to the eligibility, documentation and procedural requirements necessary to substantiate a wool duty refund for claim year 2000, whereby eligible wool products must be of the kind described in HTSUS subheadings 9902.51.11, 9902.51.12, 9902.51.13 or 9902.51.14. Manufacturers eligible to receive these refunds need to know the amended requirements for applying for refunds as soon as possible. For these same reasons, pursuant to the provisions of 5 U.S.C. 553(d)(3), Customs finds that there is good cause for dispensing with a delayed effective date.

Executive Order 12866

This document does not meet the criteria for a “significant regulatory action” as specified in Executive Order 12866.

Regulatory Flexibility Act

Because no notice of proposed rulemaking is required for these interim regulations, the provisions of the Regulatory Flexibility Act (5 U.S.C. 601 et seq.) do not apply.

Paperwork Reduction Act

The collection of information involved in this interim rule has already been approved by the Office of Management and Budget (OMB) in accordance with the requirements of the Paperwork Reduction Act of 1995 (44 U.S.C. 3507) and assigned OMB control number 1515-0227. This rule does not propose any substantive change to the existing approved information collection.

An agency may not conduct or sponsor, and a person is not required to respond to, a collection of information unless the collection of information displays a valid control number assigned by OMB.

Drafting Information

The principal author of this document was Suzanne Kingsbury, Regulations Branch, Office of Regulations and Rulings, U.S. Customs Service. However, personnel from other offices participated in its development.

List of Subjects in 19 CFR Part 10

Customs duties and inspection, Imports, Reporting and recordkeeping requirements, Trade agreements.

Amendments to the Regulations

For the reasons stated in the preamble, 19 CFR part 10 is amended as follows:

PART 10—ARTICLES CONDITIONALLY FREE, SUBJECT TO A REDUCED RATE, ETC.

1. The general authority citation for part 10 and the specific authority for § 10.184 continue to read as follows:

Authority: 19 U.S.C. 66, 1202 (General Note 22, Harmonized Tariff Schedule of the United States), 1321, 1481, 1484, 1498, 1508, 1623, 1624, 3314.

* * * * *

Section 10.184 is also issued under Sec. 505, Pub. L. 106-200, 114 Stat. 251;

* * * * *

2. A new center heading is added entitled “Wool Duty Refunds” before § 10.184.

3. Section 10.184 is revised to read as follows:

§ 10.184 Refund of duties on certain wool imports.

(a) General. Section 505 of Title V of Pub. L. 106-200 (114 Stat. 251), entitled the Trade and Development Act of 2000, authorizes the President to refund duties paid on imports of eligible wool products. The statute permits eligible importing-manufacturers and, in certain circumstances, manufacturers who are not importers, to apply for a refund of duties paid on imports of eligible wool products in each of three succeeding years. Claimants are eligible for a refund of duties paid on imports of eligible wool products in each of calendar years 2000, 2001 and 2002, limited to an amount not to exceed one-third of the duties paid on such wool products imported in calendar year 1999. This section sets forth the legal requirements and procedures that apply for purposes of obtaining this duty refund.

(b) Eligible wool products. For purposes of this section, the term eligible wool product” means an imported wool product described under a Harmonized Tariff Schedule of the United States subheading listed under paragraph (c) of this section, relevant to a manufacturer of the particular wool products specified in paragraph (c).

(c) Refunds authorized by section 505—(1) Worsted wool fabric. For each of calendar years 2000, 2001 and 2002, a U.S. manufacturer of men's or boys' suits, suit-type jackets, or trousers, of imported worsted wool fabric of the kind described in HTSUS subheadings 9902.51.11 or 9902.51.12, is eligible to claim a limited refund of the duties paid in such calendar years on entries of such fabrics that were imported or purchased by the manufacturer. HTSUS subheading 9902.51.11 provides for fabrics, of worsted wool, with average fiber diameters greater than 18.5 micron, all the foregoing certified by the importer as suitable for use in making suits, suit-type jackets, or trousers. HTSUS subheading 9902.51.12 provides for fabrics, of worsted wool, with average fiber diameters of 18.5 micron or less, all the foregoing certified by the importer as suitable for use in making suits, suit-type jackets, or trousers. The amount of duties eligible to be refunded to the manufacturer for each of these calendar years is limited to an amount not to exceed one-third of the amount of duties paid on calendar year 1999 imports of worsted wool fabric that was imported or purchased by the manufacturer and entered under HTSUS subheadings 5112.11.20 or 5112.19.90. A broker or other individual acting on behalf of the manufacturer is ineligible to claim a duty refund.

(2) Wool yarn. For each of calendar years 2000, 2001 and 2002, a U.S. manufacturer of worsted wool fabric, who imports wool yarn of the kind described in HTSUS subheading 9902.51.13, is eligible to claim a limited refund of the duties paid in each of these years on such imported wool yarn. HTSUS subheading 9902.51.13 provides for yarn, of combed wool, not put up for retail sale, containing 85 percent or more by weight of wool, formed with wool fibers having diameters of 18.5 micron or less. The amount of duties eligible to be refunded to the manufacturer for each of these calendar years is limited to an amount not to exceed one-third of the amount of duties paid by the importing-manufacturer on calendar year 1999 imports of wool yarn entered under HTSUS subheading 5107.10.00.

(3) Wool fiber and wool top. For each of calendar years 2000, 2001 and 2002, a U.S. manufacturer of wool yarn or wool fabric, who imports wool fiber or wool top of the kind described in HTSUS subheading 9902.51.14, is eligible to claim a limited refund of the duties paid in each of these years on such wool fiber or wool top. HTSUS subheading 9902.51.14 provides for wool fiber, waste, garnetted stock, combed wool, or wool top, having average fiber diameters of 18.5 micron or less. The amount of duties eligible to be refunded to the manufacturer for each of these calendar years is limited to an amount not to exceed one-third of the amount of duties paid by the importing-manufacturer on calendar year 1999 imports of wool fiber or wool top entered under HTSUS subheadings 5101.11, 5101.19, 5101.21, 5101.29, 5101.30, 5103.10, 5103.20, 5104.00, 5105.21 or 5105.29.

(d) Manufacturer's letter of intent to file a claim for a wool duty refund. A manufacturer that anticipates filing a wool duty refund claim in calendar years 2000, 2001, and 2002, pursuant to the terms of paragraph (c) of this section, must first file with Customs a letter of intent to that effect. A manufacturer's letter of intent must substantiate, to Customs satisfaction, the amount of duties paid on eligible wool products imported in calendar year 1999.

(1) Documentation required where the manufacturer is the importer. Where a manufacturer is the importer of the eligible wool products imported in calendar year 1999, a letter of intent to file a wool duty refund claim must be signed by the manufacturer or a knowledgeable authorized officer or employee of the manufacturer and must state that, to the best of the signer's knowledge and belief, the information contained in the letter is accurate and truthful. The letter of intent must contain the following information:

(i) A statement of the total amount of duties paid by the importing-manufacturer on eligible wool products imported in calendar year 1999;

(ii) A list of relevant entry summary numbers, set forth as an attachment in either a paper or an electronic format (the latter submitted to Customs on diskette), that substantiates the amount set forth in paragraph (d)(1)(i) of this section; and

(iii) A statement that no entry summary has been listed in paragraph (d)(1)(ii) of this section that did not liquidate under the HTSUS subheadings that provide a basis for a wool duty refund.

(2) Documentation required where the manufacturer is not the importer, but the manufacturer possesses the relevant entry summary numbers. Where a manufacturer described in paragraph (c)(1) of this section was not the calendar year 1999 importer of worsted wool fabric entered under HTSUS subheadings 5112.11.20 or 5112.19.90, but possesses the relevant entry summary numbers, a letter of intent to file a wool duty refund claim must be submitted to Customs and signed by the non-importing manufacturer or a knowledgeable authorized officer or employee of the manufacturer. The letter of intent must state that, to the best of the signer's knowledge and belief, the information contained in the letter is accurate and truthful.

(i) The non-importing manufacturer's letter of intent must contain the following information:

(A) A statement as to the identity of the importer(s) or supplier(s) who sold worsted wool fabric that was imported in calendar year 1999, and entered under HTSUS subheadings 5112.11.20 or 5112.19.90, to the manufacturer;

(B) Copies of all relevant invoices, set forth as an attachment, that demonstrate that the manufacturer purchased imported worsted wool fabric of the kind described in paragraph (d)(2)(i)(A) of this section from an identified importer(s) or identified supplier(s) and that establish, where applicable, that the identified supplier(s) purchased such fabric from the identified importer(s);

(C) A completed Customs Form (CF) 5106—Importer ID Input Record, set forth as an attachment; and

(D) A signed affidavit, set forth as an attachment, that contains the following information:

(1) A statement that the affiant is a U.S. manufacturer of men's or boys' suits, suit-type jackets, or trousers, of imported worsted wool fabric of the kind described in HTSUS subheadings 9902.51.11 or 9902.51.12;

(2) A statement that the affiant was not the importer in calendar year 1999 of worsted wool fabric entered under HTSUS subheadings 5112.11.20 or 5112.19.90;

(3) A statement as to the quantity of imported worsted wool fabric of the kind described in paragraph (d)(2)(i)(D)(2) of this section that the affiant purchased from an identified importer(s) or from an identified supplier(s), with copies of relevant invoices attached;

(4) If the affiant purchased fabric of the kind described in paragraph (d)(2)(i)(D)(2) of this section from an identified supplier, a statement that the affiant has been provided with substantiating documentation that establishes that the subject fabric was imported by the identified importer; and

(5) A statement by the affiant that the identified importer(s) has provided a list of relevant entry summary numbers directly to the affiant that substantiates the amount of duties paid on calendar year 1999 imports of worsted wool fabric entered under HTSUS subheadings 5112.11.20 or 5112.19.90, as identified in the submitted invoices, and such information is set forth as an attachment; and/or

(6) A statement by the affiant that the identified importer has agreed to submit a signed affidavit directly to Customs with the relevant entry summary numbers attached.

(ii) A non-importing manufacturer's affidavit to substantiate the amount of duties paid on worsted wool fabric imported in calendar year 1999 must be signed by the manufacturer or a knowledgeable authorized officer or employee of the manufacturer, and be submitted to Customs in the following format:

Non-Importing Manufacturer's Affidavit in Support of a Letter of Intent To File a Wool Duty Refund Claim (Where the Manufacturer Possesses the Relevant Entry Summary Numbers for the Fabric Identified in the Invoices Submitted With This Affidavit)

1. The undersigned (name of manufacturer), is a U.S. manufacturer of men's or boys' suits, suit-type jackets, or trousers, of imported worsted wool fabric of the kind described in HTSUS subheadings 9902.51.11 or 9902.51.12;

2. The undersigned was not the importer in calendar year 1999 of worsted wool fabric entered under HTSUS subheadings 5112.11.20 or 5112.19.90;

3. The undersigned purchased (specify quantity) of imported worsted wool fabric of the kind described in item (2) above from (name of importer) or from a supplier (name of supplier), and copies of the relevant invoices are attached;

4. Where the undersigned purchased imported worsted wool fabric of the kind described in item (2) above from (name of supplier), the undersigned has substantiating documentation that establishes that such fabric was imported by (name of importer);

5(a). Attached is a list of relevant entry summary numbers, provided directly to the undersigned by (name of importer), that substantiates the amount of duties paid on calendar year 1999 imports of worsted wool fabric entered under HTSUS subheadings 5112.11.20 or 5112.19.90, as identified in the attached invoices; and/or

5(b). The importer (name of importer), has agreed to submit a signed affidavit directly to Customs that attests to the fact that the importer sold imported worsted wool fabric of the kind described in item (2) above to the undersigned or to identified supplier(s), and to attach a list of the relevant entry summary numbers that substantiates the amount of duties paid on calendar year 1999 imports of such worsted wool fabric, as identified in the attached invoices; and

6. The undersigned certifies that the information set forth in this affidavit is true and accurate to the best of the affiant's knowledge and belief.

(iii) If an importer assists in the substantiation of a non-importing manufacturer's letter of intent by submitting relevant entry summary numbers directly to Customs as an attachment to a signed affidavit, the importer's affidavit must be signed by the importer or a knowledgeable officer or employee of the importer and must state that, to the best of the affiant's knowledge and belief, the information contained in the affidavit is accurate and truthful. The importer's signed affidavit must contain the following information:

(A) A statement that the affiant paid duties on calendar year 1999 imports of worsted wool fabric entered under HTSUS subheadings 5112.11.20 or 5112.19.90;

(B) Identification of the claimant, or supplier to the claimant, to whom the affiant sold imported worsted wool fabric of the kind described in paragraph (d)(2)(iii)(A) of this section;

(C) A list of relevant entry summary numbers for worsted wool fabric of the kind described in paragraph (d)(2)(iii)(A) of this section, imported in calendar year 1999, set forth as an attachment in either a paper or an electronic format (the latter submitted to Customs on diskette), that substantiates the amount of duties paid on such fabric sold to the identified claimant or identified supplier, as evidenced by the claimant's invoices; and

(D) A statement that the importer has not listed any entry summary in paragraph (d)(2)(iii)(C) of this section that did not liquidate under HTSUS subheadings 5112.11.20 or 5112.19.90.

(iv) The importer's affidavit in support of a non-importing manufacturer's letter of intent to claim a wool duty refund must be signed by the importer or a knowledgeable officer or employee of the importer, and be submitted to Customs in the following format:

Importer's Affidavit in Support of a Non-Importing Manufacturer's Letter of Intent To Claim a Wool Duty Refund

1. The undersigned (name of importer), is/was an importer who paid duties on calendar year 1999 imports of worsted wool fabric entered under HTSUS subheadings 5112.11.20 or 5112.19.90;

2. The undersigned sold worsted wool fabric of the kind described in item (1) above to a manufacturer identified as (name of manufacturer) or to a supplier(s) identified as (name of supplier);

3. Attached is a list of relevant entry summary numbers for worsted wool fabric of the kind described in item (1) above that substantiates the amount of duties paid on calendar year 1999 imports of such fabric that was sold to (name of manufacturer) or to (name of supplier) by the undersigned;

4. The undersigned has not listed any entry summary in item (3) above that did not liquidate under HTSUS subheadings 5112.11.20 or 5112.11.90; and

5. The undersigned certifies that the information set forth in this affidavit is true and accurate to the best of the affiant's knowledge and belief.

(3) Documentation required where the manufacturer is not the importer and the manufacturer does not possess the relevant entry summary numbers. Where a manufacturer described in paragraph (c)(1) of this section was not the calendar year 1999 importer of worsted wool fabric entered under HTSUS subheadings 5112.11.20 or 5112.19.90, and does not possess the relevant entry summary numbers, a letter of intent to file a wool duty refund claim must be submitted to Customs and signed by the non-importing manufacturer or a knowledgeable authorized officer or employee of the manufacturer. The letter of intent must state that, to the best of the signer's knowledge and belief, the information contained in the letter is accurate and truthful.

(i) The non-importing manufacturer's letter of intent, where the manufacturer does not possess the relevant entry summary numbers, must contain the following information:

(A) A statement as to the identity of the importer(s) or supplier(s) who sold imported worsted wool fabric entered under HTSUS subheadings 5112.11.20 or 5112.19.90 to the non-importing manufacturer;

(B) Copies of all relevant calendar year 1999 invoices, set forth as an attachment, that demonstrate that the non-importing manufacturer purchased imported worsted wool fabric of the kind described in paragraph (d)(3)(i)(A) of this section from an identified importer(s) or identified supplier(s);

(C) A statement that if the non-importing manufacturer purchased imported worsted wool fabric of the kind described in paragraph (d)(3)(i)(A) of this section from an identified supplier, the manufacturer has substantiating documentation that establishes that such fabric was imported by the identified importer;

(D) A completed Customs Form (CF) 5106—Importer ID Input Record, set forth as an attachment; and

(E) A signed affidavit, set forth as an attachment, that contains the following information:

(1) A statement that the affiant is a U.S. manufacturer of men's or boys' suits, suit-type jackets, or trousers, of imported worsted wool fabric of the kind described in HTSUS subheadings 9902.51.11 or 9902.51.12;

(2) A statement that the affiant was not the importer in calendar year 1999 of worsted wool fabric entered under HTSUS subheadings 5112.11.20 or 5112.19.90;

(3) A statement of the quantity of imported worsted wool fabric of the kind described in paragraph (d)(3)(i)(E)(2) of this section that the affiant purchased from an identified importer(s) or from an identified supplier(s), with copies of the relevant invoices attached;

(4) A statement that where the affiant purchased imported worsted wool fabric of the kind described in paragraph (d)(3)(i)(E)(2) of this section from an identified supplier, the affiant has substantiating documentation that establishes that such fabric was imported by the identified importer; and

(5) A statement by the affiant that a good faith effort was made to contact the identified importer and request relevant entry summary numbers that substantiate the amount of duties paid on calendar year 1999 imports of worsted wool fabric identified in the submitted invoices, but the identified importer is unable or unwilling to provide such assistance.

(ii) A non-importing manufacturer's affidavit to estimate and substantiate the amount of duties paid by the importer on worsted wool fabric imported in calendar year 1999, where no entry summary numbers are available, must be signed by the manufacturer or a knowledgeable authorized officer or employee of the manufacturer, and be submitted to Customs in the following format:

Non-Importing Manufacturer's Affidavit in Support of a Letter of Intent To File a Wool Duty Refund Claim (Where the Manufacturer Does Not Possess the Relevant Entry Summary Numbers for the Fabric Identified in the Invoices Submitted With this Affidavit)

1. The undersigned (name of manufacturer), is a U.S. manufacturer of men's or boys' suits, suit-type jackets, or trousers, of imported worsted wool fabric of the kind described in HTSUS subheadings 9902.51.11 or 9902.51.12;

2. The undersigned was not the importer in calendar year 1999 of worsted wool fabric entered under HTSUS subheadings 5112.11.20 or 5112.19.90;

3. The undersigned purchased (specify quantity) of imported worsted wool fabric of the kind described in item (2) above from (name of importer) or from a supplier (name of supplier), and copies of relevant invoices are attached;

4. If the undersigned has purchased imported worsted wool fabric of the kind described in item (2) above from (name of supplier), the undersigned has substantiating documentation that establishes that such fabric was imported by (name of importer);

5. The undersigned attests that a good faith effort was made to contact the identified importer(s) and request that relevant entry summary numbers be provided to either the undersigned or directly to Customs that substantiate the amount of duties paid on calendar year 1999 imports of worsted wool fabric entered under HTSUS subheadings 5112.11.20 or 5112.19.90, as identified in the submitted invoices, but the identified importer is unable or unwilling to provide such assistance; and

6. The undersigned certifies that the information set forth in this affidavit is true and accurate to the best of the affiant's knowledge and belief.

(4) Documentation required where the manufacturer is both an importer and a purchaser of eligible worsted wool fabric. Where a manufacturer described in paragraph (c)(1) of this section is both an importer and a purchaser of eligible worsted wool fabric, the manufacturer must submit to Customs a letter of intent to file a wool duty refund claim that is signed by the manufacturer or a knowledgeable authorized officer or employee of the manufacturer. The letter of intent must state that, to the best of the signer's knowledge and belief, the information contained in the letter is accurate and truthful, and must contain the following:

(i) Where the manufacturer is the importer, the information described in paragraph (d)(1) of this section;

(ii) Where the manufacturer is not the importer, but the manufacturer possesses the relevant entry summary numbers, the information described in paragraph (d)(2) of this section and the relevant entry summary numbers may be submitted directly to Customs by the manufacturer and/or the importer(s); and/or

(iii)Where the manufacturer is not the importer, and the manufacturer does not possess the relevant entry summary numbers, the information described in paragraph (d)(3) of this section.

(5) Documentation required where a prospective claimant is the legal assignee of an eligible manufacturer's potential wool duty refund rights. To file a letter of intent where the prospective claimant is the legal assignee of any potential wool duty refund claim rights attributable to an eligible manufacturer described in paragraph (c) of this section, the facts of such legal assignation, and the identity of all affected parties, must be submitted to Customs in a written attachment to the letter of intent, and additional substantiating documentation must be available to Custom upon request. Only those assignees that substantiate, to Customs satisfaction, the terms and legality of the assignation will be eligible to claim a wool duty refund.

(6) Time to file a letter of intent. A manufacturer's letter of intent to file a wool duty refund claim, including amendments, all attachments and, where applicable, the importer's signed affidavit in support of the manufacturer's letter of intent, must be received by Customs no later than May 8, 2001, unless this date is extended upon due notice in the Federal Register.

(7) Place to file a letter of intent. A manufacturer's letter of intent to file a wool duty refund claim, including all attachments and, where applicable, the importer's signed affidavit in support of the manufacturer's letter of intent, must be submitted to: U.S. Customs Service, Wool Refund Claim, Residual Liquidation and Protest Branch, Rm. 761, 6 World Trade Center, New York, N.Y. 10048-0945.

(e) Customs verification letter. Customs will issue to a prospective claimant a written verification letter within 30 calendar days from the date Customs receives a timely and complete letter of intent that relies solely on relevant entry summary numbers to substantiate, to Customs satisfaction, the amount of duties paid on eligible wool products imported in calendar year 1999. Where a prospective claimant submits a letter of intent that relies on invoices, in whole or in part, to substantiate, to Customs satisfaction, the amount of duties paid on eligible wool products imported in calendar year 1999, Customs will issue a verification letter to such prospective claimant within 30 calendar days after the date all letters of intent must be received by Customs, as set forth in paragraph (d)(6) of this section. The amount of potential duty refund will be based on the quantity of eligible wool products that was imported by the prospective claimant or, where the prospective claimant was not the importer, purchased by the prospective claimant (as indicated by submitted invoices). If entry summary numbers are used to substantiate the amount of duties paid on eligible wool products imported in calendar year 1999, the potential refund amount will be limited to the amount of duties paid on such entry summaries that is attributable to that quantity of eligible wool products. If, instead, invoices are used to estimate and substantiate the amount of duties paid on eligible wool fabrics imported in calendar year 1999, the amount of duties will be determined by deducting 10 percent from the invoice amounts (to deduct imputed profits and costs), dividing the resulting adjusted invoice amounts by 130.6% to back out the duty, and then multiplying that amount times the duty rate (30.6%). If the aggregate amount of duties attributable to an importer exceeds the amount of duties paid by that importer in calendar year 1999, as indicated by ACS, an adjustment will be made to those claimants requiring use of the invoice formula. The percentage deducted from the invoice amounts for those claimants will be increased on a pro rata basis to ensure that the aggregate amount to be refunded does not exceed the ACS amount. Refund amounts substantiated by entry summary numbers will not be reduced. A letter of verification will set forth the following information:

(1) The prospective claimant's claim identification number;

(2) The maximum amount of wool duty refund that the individual prospective claimant will be eligible to receive in each of calendar years 2000, 2001, and 2002; and

(3) Where invoices are used to substantiate the amount of duties paid on worsted wool fabric in calendar year 1999, the percentage that was deducted from the invoice amounts, with accompanying explanation.

(f) Eligibility criteria to claim a wool duty refund for calendar years 2000, 2001, and 2002. To be eligible to claim a refund of duties paid on imports of certain wool products in calendar years 2000, 2001, and 2002, a claimant must be in receipt of a claim verification letter from Customs. Additionally, in each calendar year for which a wool duty refund claim is being made, a claimant must be:

(1) A U.S. manufacturer of men's or boys' suits, suit-type jackets, or trousers, of imported worsted wool fabric of the kind described in HTSUS subheadings 9902.51.11 or 9902.51.12, for which duties were paid on entries made under HTSUS subheadings 5112.11.20 or 5112.19.90 in calendar year 2000, or under HTSUS subheadings 5112.11.30, 5112.11.60, 5112.19.60, 5112.19.95, 9902.51.11 or 9902.51.12 in calendar years 2001 and 2002;

(2) A U.S. manufacturer of worsted wool fabric who paid duties on imported wool yarn of the kind described in HTSUS subheading 9902.51.13 and entered under HTSUS subheadings 5107.10.00 in calendar year 2000, or under HTSUS subheadings 5107.10.30 or 9902.51.13 in calendar years 2001 and 2002;

(3) A U.S. manufacturer of wool yarn or wool fabric who paid duties on imported wool fiber or wool top of the kind described in HTSUS subheading 9902.51.14 and entered under HTSUS subheadings 5101.11, 5101.19, 5101.21, 5101.29, 5101.30, 5103.10, 5103.20, 5104.00, 5105.21 or 5105.29 in calendar years 2000, 2001 and 2002, or under HTSUS subheading 9902.51.14 in calendar years 2001 and 2002; and/or

(4) A legal assignee of the existing wool duty refund claim rights of an eligible manufacturer described in paragraphs (f)(1), (f)(2) or (f)(3) of this section.

(g) Procedures for filing a claim—(1) Time to file. An eligible claimant may file with Customs one wool duty refund claim for each of calendar claim years 2000, 2001 and 2002, including, where applicable, related amended claims. A claim may be amended within 90 calendar days from the date of the original submission or, if Customs has notified the claimant in writing that the claim is insufficient to support the claim as requested or is otherwise defective (e.g., a claim that relies on an entry summary that is ineligible for a wool duty refund, as provided for in § 10.184(j)), within 90 calendar days from the date of the Customs notification. All claims for a wool duty refund, whether original or amended in the absence of a Customs notification of insufficiency or defect, must be received by Customs no later than December 31 of the year following the calendar claim year for which a wool duty refund is being sought. An amended claim made in response to a Customs notification of insufficiency or defect may be submitted to Customs after the December 31 deadline applicable to all other claim submissions. A claimant may file two separate duty refund claims in a single calendar year, so long as the claims are for two different claim years.

(2) Place to file. A claim for a refund of duties paid on imports of eligible wool products must be submitted to: U.S. Customs Service, Wool Refund Claim, Residual Liquidation and Protest Branch, Rm. 761, 6 World Trade Center, New York, N.Y. 10048-0945.

(3) Documentation. (i) Where the manufacturer is the importer. To file a wool duty refund claim, an importing-manufacturer must provide Customs with a copy of the verification letter the claimant received from Customs and an affidavit, signed by the manufacturer or a knowledgeable officer or employee of the manufacturer, that contains the following information:

(A) A statement that the affiant is/was a U.S. manufacturer of the kind described in paragraphs (f)(1), (f)(2) or (f)(3) of this section, in the calendar claim year for which a wool duty refund is being sought;

(B) A statement of the total amount of duties paid by the affiant in that year on eligible wool products;

(C) The total amount of duty refund being claimed;

(D) A list of relevant entry summary numbers, set forth as an attachment and submitted to Customs in either a paper or an electronic format (the latter on diskette), that substantiates the amount of duties for which a refund is being claimed in paragraph (g)(3)(i)(C) of this section, and does not exceed the affiant's share of duties eligible to be refunded as set forth in the attached verification letter;

(E) A statement that no entry summary has been listed in paragraph (g)(3)(i)(D) of this section that has already had 99% or more of the amount of duties paid on that entry refunded pursuant to any refund claim authorized by law; and

(F) A statement that identifies, if applicable, any entry summary listed in paragraph (g)(3)(i)(D) of this section that is, or may become, subject to an outstanding drawback claim, protest, or any other refund claim authorized by law.

(ii) Form of affidavit. An importing-manufacturer's signed affidavit to substantiate a wool duty refund claim in calendar years 2000, 2001, or 2002 must be signed by the manufacturer, or a knowledgeable officer or employee of the manufacturer, and submitted to Customs in the following format:

Importing-Manufacturer's Affidavit in Support of a Claim for a Wool Duty Refund Under Section 505 of the Trade and Development Act of 2000, for Calendar Year

1. The undersigned, (name of manufacturer), is/was a U.S. manufacturer of the kind described in paragraphs (f)(1) [_], (f)(2) [_] or (f)(3) [_] [check one] of § 10.184 of the Customs Regulations (19 CFR 10.184(f)), in the calendar claim year for which a wool duty refund is being sought;

2. The undersigned paid (total amount of duties paid) in calendar year _____ on eligible wool products;

3. The amount of wool duty refund being claimed is $______;

4. Attached is a list of the relevant current claim year entry summary numbers that substantiate the amount of duty refund being claimed in item (3) above;

5. The undersigned has not listed any entry summary in item (4) above that has had 99% or more of the amount of duties paid on that entry refunded pursuant to any refund claim authorized by law;

6. The undersigned will list any entry summary in item (4) above that is, or may become, subject to an outstanding drawback claim, protest, or any other refund claim authorized by law; and

7. The undersigned certifies that the information set forth in this affidavit is true and accurate to the best of the affiant's knowledge and belief.

(iii) Where the manufacturer is not the importer. To file a wool duty refund claim, a manufacturer of men's or boys' suits, suit-type jackets, or trousers, of imported worsted wool fabric of the kind described in HSTUS subheadings 9902.51.11 or 9902.51.12, who is a purchaser but not the importer of such fabric, must provide Customs with a copy of the verification letter the claimant received from Customs and an affidavit signed by the manufacturer, or a knowledgeable officer or employee of the manufacturer, that contains the following information:

(A) A statement that the affiant is/was a U.S. manufacturer in the calendar claim year for which a wool duty refund is being sought, of men's or boys' suits, suit-type jackets, or trousers, of imported worsted wool fabric of the kind described in HTSUS subheadings 9902.51.11 or 9902.51.12;

(B) A statement that the affiant was not the importer in the calendar claim year for which a wool duty refund is being sought of imported worsted wool fabric of the kind described in paragraph (g)(3)(iii)(A) of this section;

(C) A statement as to the quantity of imported worsted wool fabric of the kind described in paragraph (g)(3)(iii)(A) of this section that the affiant purchased from an identified importer(s) or from an identified supplier(s), with copies of relevant invoices attached;

(D) A statement that where the affiant purchased imported worsted wool fabric of the kind described in paragraph (g)(3)(iii)(A) of this section from an identified supplier(s), the affiant has substantiating documentation that establishes that such fabric was imported by the identified importer(s); and

(E) A statement by the affiant that the identified importer(s) has provided a list of relevant entry summary numbers directly to the affiant that substantiates the amount of duties paid in the calendar claim year for which a wool duty refund is being sought on imported worsted wool fabric of the kind described in paragraph (g)(3)(iii)(A) of this section, as identified in the submitted invoices, and entered under HTSUS subheadings 5112.11.20 or 5112.19.90 in calendar year 2000, or under HTSUS subheadings 5112.11.30, 5112.11.60, 5112.19.60, 5112.19.95, 9902.51.11 or 9902.51.12 in calendar years 2001 and 2002, and such information is set forth as an attachment; and/or

(F) A statement by the affiant that the identified importer(s) has agreed to submit a signed affidavit directly to Customs with the relevant entry summary numbers attached that substantiates the amount of duties paid in the calendar claim year for which a wool duty refund is being sought on imported worsted wool fabric of the kind described in paragraph (g)(3)(iii)(A) of this section, as identified in the submitted invoices, and entered under HTSUS subheadings 5112.11.20 or 5112.19.90 in calendar year 2000, or under HTSUS subheadings 5112.11.30, 5112.11.60, 5112.19.60, 5112.19.95, 9902.51.11 or 9902.51.12 in calendar years 2001 and 2002.

(iv) Form of affidavit. A manufacturer who is not the importer of the imported worsted wool fabric must submit to Customs an affidavit to substantiate a wool duty refund claim in calendar years 2000, 2001, or 2002, signed by the manufacturer or a knowledgeable officer or employee of the manufacturer, in the following format:

Non-Importing Manufacturer's Affidavit in Support of a Claim for a Duty Refund Under Section 505 of the Trade and Development Act of 2000, for Calendar Year

1. The undersigned (name of manufacturer), is/was a U.S. manufacturer in calendar year ___ of men's or boys' suits, suit-type jackets, or trousers, of imported worsted wool fabric of the kind described in HTSUS subheadings 9902.51.11 or 9902.51.12;

2. The undersigned was not the importer in the calendar claim year for which a wool duty refund is being sought of worsted wool fabric of the kind described in item 1 above;

3. The undersigned purchased (specify quantity) of imported worsted wool fabric of the kind described in item (1) above from (name of importer(s)) or from a supplier(s), and the relevant invoices are attached;

4. Where the undersigned purchased imported worsted wool fabric of the kind described in item (1) above from (name of supplier), the undersigned has substantiating documentation that establishes that such fabric was imported by (name of importer);

5(a). Attached is a list of relevant entry summary numbers, provided directly to the undersigned by (name of importer), that substantiates the amount of duties paid in the calendar claim year for which a wool duty refund is being sought, as evidenced by the attached invoices, on imported worsted wool fabric of the kind described in item (1) above and entered under HTSUS subheadings 5112.11.20 or 5112.19.90 in calendar year 2000, or under HTSUS subheadings 5112.11.30, 5112.11.60, 5112.19.60, 5112.19.95, 9902.51.11 or 9902.51.12 in calendar years 2001 and 2002; and/or

5(b). The importer (name of importer), has agreed to submit a signed affidavit directly to Customs that attests to the fact that the importer sold imported worsted wool fabric of the kind described in item (1) above to the undersigned or to (name of supplier), and has agreed to attach a list of relevant entry summary numbers that substantiates the amount of duties paid in the calendar claim year for which a wool duty refund is being sought, as evidenced by the attached invoices, on such fabric that was entered under HTSUS subheadings 5112.11.20 or 5112.19.90 in calendar year 2000, or under HTSUS subheadings 5112.11.30, 5112.11.60, 5112.19.60, 5112.19.95, 9902.51.11 or 9902.51.12 in calendar years 2001 and 2002; and

6. The undersigned certifies that the information set forth in this affidavit is true and accurate to the best of the affiant's knowledge and belief.

(v) Required content of an importer's signed affidavit in support of a manufacturer's wool duty refund claim. Where an importer chooses to assist in the substantiation of a non-importing manufacturer's wool duty refund claim by submitting relevant entry summary numbers directly to Customs, such entry information must be set forth as an attachment to an affidavit that is signed by the importer or by a knowledgeable officer or employee of the importer, and must contain the following information:

(A) A statement as to the total amount of duties that the importer paid in the calendar year for which a wool duty refund is being sought on worsted wool fabric of the kind described in paragraph (g)(3)(iii) of this section;

(B) A statement that the importer sold worsted wool fabric of the kind described paragraph (g)(3)(iii) of this section, to the identified manufacturer or to the identified supplier(s);

(C) A list of relevant entry summary numbers for worsted wool fabric of the kind described in paragraph (g)(3)(iii) of this section, set forth as an attachment in either a paper or an electronic format (the latter submitted to Customs on diskette), that substantiates the amount of duties paid in the calendar claim year for which a wool duty refund is being sought on such fabric that was sold by the importer to the identified manufacturer or to the identified supplier(s);

(D) A statement that no entry summary number has been listed in paragraph (g)(3)(v)(C) of this section that has already had 99% or more of the amount of duties paid on that entry refunded pursuant to any refund claim authorized by law; and

(E) A statement that lists any entry summary number in paragraph (g)(3)(v)(C) of this section that is, or may become, subject to an outstanding drawback claim, protest, or any other refund claim authorized by law.

(vi) Form of affidavit. The importer's affidavit in support of manufacturer's wool duty refund claim must be signed by the importer or by a knowledgeable officer or employee of the importer, and be submitted to Customs in the following format:

Importer's Affidavit in Support of a Non-Importing Manufacturer's Claim for a Duty Refund Under Section 505 of the Trade and Development Act of 2000, for Calendar Year

1. The undersigned (name of importer), is/was an importer who paid duties in calendar year ___ on imported worsted wool fabric of the kind described in HTSUS subheadings 9902.51.11 or 9902.51.12;

2. The undersigned sold worsted wool fabric of the kind described in item (1) above to a manufacturer identified as (name of manufacturer) or to a supplier(s) identified as (name of supplier);

3. Attached is a list of relevant entry summary numbers for worsted wool fabric of the kind described in item (1) above, that substantiates the amount of duties paid in the calendar claim year for which a wool duty refund is being sought on such fabric that was sold by the undersigned to (name of manufacturer) or to an identified supplier(s) (name of supplier(s));

4. The undersigned has not listed any entry summary in item (3) above that has had 99% or more of the amount of duties paid on that entry refunded pursuant to any refund claim authorized by law;

5. The undersigned will list any entry summary in item (3) above that is, or may become, subject to an outstanding drawback claim, protest, or any other refund claim authorized by law; and

6. The undersigned certifies that the information set forth in this affidavit is true and accurate to the best of the affiant's knowledge and belief.

(vii) Documentation required where the manufacturer is both an importer and a purchaser of eligible worsted wool fabric. Where a manufacturer described in paragraph (c)(1) of this section is both an importer and a purchaser of eligible worsted wool fabric, the manufacturer must provide Customs with both the documentation described in paragraphs (g)(3)(i) and (g)(3)(ii) of this section, and the documentation described in paragraphs (g)(3)(iii) and (g)(3)(iv) of this section.

(viii) Documentation required where the claimant is the legal assignee of an eligible manufacturer's wool duty refund claim rights. To file a wool duty refund claim where the claimant is the legal assignee of the existing wool duty refund claim rights of an eligible manufacturer described in paragraphs (f)(1), (f)(2) or (f)(3) of this section, the facts of such legal assignation, and the identity of all affected parties, must be submitted to Customs in a written attachment to the claim, and additional substantiating documentation must be available to Custom upon request. Only those assignees that substantiate, to Customs satisfaction, the terms and legality of the assignation will be eligible to claim a wool duty refund.

(h) Wool duty refund claim processing procedures. Upon receipt of a timely and complete wool duty refund claim filed pursuant to the terms of this section, Customs will determine the liquidation status of the entry summaries used to substantiate the claim. No duty refund will be issued to a claimant until all the entry summaries identified for purposes of substantiating the claim have been finally liquidated and the applicable amendment period, as set forth in paragraph (g)(1) of this section has expired or the claimant has submitted to Customs a signed waiver of amendment.

(i) Denial of a wool duty refund claim. Customs may deny a wool duty refund claim if the claim was not timely filed, if the claimant is not eligible pursuant to the terms of this section, or if the claimant has not complied with the requirements of this section. Customs will provide the claimant with written notice of the denial of the claim, including the reason for the denial.

(j) Multiple refund claims and pending judicial review—(1) Allowance or denial of subsequent claims. If an entry has been used to provide the basis for a duty refund claim pursuant to this section, and the entire amount of duties paid on that entry was refunded to the claimant, a claim for drawback, or any other refund claim authorized by law, that is based on that entry, will be denied by Customs. If an entry has been used to substantiate a claim for a duty refund under this section, and an amount in duties paid on that entry has not been refunded, the remaining amount may be eligible for subsequent duty refund claims under this section, drawback, or any other refund claim authorized by law. An entry that has already had 99% or more of the duties paid on that entry refunded by way of a drawback claim, protest, or any other claim authorized by law, may not be used to provide the basis for a wool duty refund claim.

(2) Substitution of entry summary numbers. If a duty refund claim under this section has not yet been processed by Customs, an importer may substitute an entry summary that has already been identified to Customs for purposes of substantiating the claim with another comparable entry summary, so long as the amount of duty paid in connection with the replacement entry is not less than the duty paid on the entry that was identified to Customs originally.

(3) Pending judicial review. If a summons involving the tariff classification or the dutiability of an imported wool product has been filed in the Court of International Trade, Customs will deem any entry summary at issue in that judicial proceeding ineligible to substantiate a duty refund claim.

(k) Penalties and liquidated damages. A wool duty refund claimant's failure to comply with any of the procedural requirements set forth in this document, or failure to adhere to all applicable laws and regulations, may subject the claimant to penalties, liquidated damages or other administrative sanctions.

Charles W. Winwood,
Acting Commissioner of Customs.
Approved: April 9, 2001.
Timothy E. Skud,
Acting Deputy Assistant Secretary of the Treasury.

[FR Doc. 01-10004 Filed 4-20-01; 8:45 am]

BILLING CODE 4820-02-P